DEPARTMENT OF DEFENSE

Department of the Army

MTMC Pam 55-4 “How to do Business in the DOD Personal Property Program”. Defense Transportation Regulation Part IV, DOD Personal Property Program; Tender of Service

AGENCY: Military Traffic Management Command (MTMC), DoD.

ACTION: Notice; Moratorium.

SUMMARY: Moratorium on accepting application in the DOD Personal Property Program. MTMC, as Program Manager of the Department of Defense (DOD) Personal Property Shipment and Storage Program (the Program), proposes to streamline and strengthen the carrier qualification process. Due to the administrative workload to requalify current DOD participants we must impose a moratorium. See item in this Federal Register from MTMC, notice on new procedures, MTMC Pam 55-4 “How to do Business in the DOD Personal Property Program”; Defense Transportation Regulation Part IV; Tender of Service (request for comments), which addresses the streamlining and strengthening of carrier qualification procedures. A moratorium has been established on accepting new applications in the Department of Defense (DOD) Personal Property Program for a period of time to allow smooth transition to the new electronic carrier qualification process. This period of time will not exceed one year and will end when all participants are re-qualified.

DATES: The moratorium will be effective November 16, 2001.

FOR FURTHER INFORMATION CONTACT: Ms. Sylvia Walker, Headquarters, Military Traffic Management Command, Attn: MTPP-HQ, Room 10N67-51, Hoffman Building II, 200 Stovall Street, Alexandria, VA 22332-5000; Telephone (703) 428-2982; Telfax (703) 428-3388/3389.

SUPPLEMENTARY INFORMATION:

I. Moratorium

Current: MTMC has no moratorium.

Proposed: MTMC will impose a temporary moratorium on accepting new applications for qualification beginning 10 days from the date of publication of this notice in the Federal Register. MTMC may reduce the moratorium to a lesser period based on the time it takes to complete transition from the manual to the electronic applicaiton process. Once the moratorium is lifted future applicants must qualify under the new qualification procedures.

II. Paperwork Reduction Act

The Paperwork Reduction Act, 44 U.S.C. 3501 et seq., does not apply because no information requirements or records keeping responsibilities are imposed on offerors, contractors, or members of the public.

III. Regulatory Flexibility Act

This change is related to public contracts and is designed to streamline and strengthen the DOD personal property carrier qualification program. This change is not considered rule making within the meaning of the Regulatory Flexibility Act, 5, U.S.C. 601-612.

Luz D. Ortiz,
Army Federal Register Liaison Officer.

[FR Doc. 01-27862 Filed 11-5-01; 8:45 am]

BILLING CODE 3710-08-M